DEPARTMENT OF VETERANS AFFAIRS

Voluntary Service National Advisory Committee; Notice of Meeting

The Department of Veterans Affairs (VA) gives notice under Public Law 92-463 (Federal Advisory Committee Act) that the Executive Committee to the Department of Veterans Affairs Voluntary Service (VAVS) National Advisory Committee (NAC) will meet October 6-7, 2008, at the Marriott West Chase, Houston, Texas. The sessions will begin at 8 a.m. each day and end at 4:30 p.m. on October 6 and at noon on October 7. The meeting is open to the public.

The NAC consists of 63 national organizations and advises the Secretary, through the Under Secretary for Health, on the coordination and promotion of volunteer activities within VA health care facilities. The Executive Committee consists of 18 representatives from the NAC member organizations.

On October 6, agenda topics will include: NAC goals and objectives, minutes of April 2008 NAC meeting, Veterans Health Administration update, VAVS update on the Voluntary Service program's activities since the 2008 NAC annual meeting, Parke Board update, evaluations of the 2008 NAC annual meeting and plans for the 2009 NAC annual meeting (to include workshops and plenary sessions). On October 7, agenda topics will include: Recommendations from the 2008 NAC annual meeting, subcommittee reports, standard operating procedure revisions, 2010 NAC annual meeting planning, and new business.

No time will be allocated at this meeting for receiving presentations from the public. However, interested persons may either attend or file statements with the Committee. Written statements may be filed either before the meeting or within 10 days after the meeting and addressed to: Ms. Laura Balun, Designated Federal Officer, Voluntary Service Office (10C2), Department of Veterans Affairs, 810 Vermont Avenue, NW., Washington, DC 20420. Ms. Balun can be contacted by phone at (202) 461-7300.

Dated: August 21, 2008.
By direction of the Secretary.
E. Philip Riggin,
Committee Management Officer.

[FR Doc. E8-19841 Filed 8-27-08; 8:45 am]

BILLING CODE 8320-01-M